DEPARTMENT OF HEALTH AND HUMAN SERVICES

Findings of Research Misconduct

AGENCY: Office of the Secretary, HHS.

ACTION: Notice.

SUMMARY: Notice is hereby given that the Office of Research Integrity (ORI) has taken final action in the following case:

Zhihua Zou, Ph.D., Harvard Medical School and Fred Hutchinson Cancer Research Center: Based on the reports of investigations conducted by Harvard Medical School (HMS) and Fred Hutchinson Cancer Research Center (FHCRC) and additional analysis conducted by ORI in its oversight review, ORI found that Dr. Zhihua Zou, former Postdoctoral Fellow, Department of Neurobiology, HMS, and former Staff Scientist, Division of Basic Sciences, FHCRC, engaged in research misconduct in research supported by National Institute of Dental and Craniofacial Research (NIDCR), National Institutes of Health (NIH), grants R01 DC001622 and R01 DC004842.

ORI found that Respondent engaged in research misconduct by falsifying data that were included in two (2) publications:

1. Zou, Z., Horowitz, L.F., Montmayeur, J.P., Snapper, S., & Buck, L.B. “Genetic tracing reveals a stereotyped sensory map in the olfactory cortex.” Nature 414:173-179, 2001 (hereafter referred to as “Nature 2001”).

2. Zou, Z., Li, F., & Buck, L.B. “Odor maps in the olfactory cortex.” Proc Natl Acad Sci USA 102:7724-7729, 2005 (hereafter referred to as “PNAS 2005”).

As a result of the investigations, both publications have been retracted.

Specifically, ORI finds that Respondent:

• Falsified Figures 2k, 2l, 3a, 3f, 3h, and 3i in Nature 2001 and Figure 5C(b) in PNAS 2005 by manipulating the images to alter the number and location of positively stained cells in the olfactory bulb and olfactory cortex of mice.

Dr. Zou has entered into a Voluntary Settlement Agreement (Agreement) and has voluntarily agreed for a period of three (3) years, beginning on July 9, 2014:

(1) That the administrative actions delineated in (2)-(4) below will be required for three (3) years after the effective date of the Agreement, beginning on the date of Respondent's employment in a research position in which he receives or applies for U.S. Public Health Service (PHS) support; however, if within three (3) years of the effective date of the Agreement, Respondent has not obtained employment in a research position in which he receives or applies for PHS support, the administrative actions in (2)-(4) will no longer apply;

(2) to have any PHS-supported research supervised; Respondent agrees that prior to the submission of an application for PHS support for a research project on which the Respondent's participation is proposed and prior to Respondent's participation in any capacity on PHS-supported research, Respondent shall ensure that a plan for supervision of Respondent's duties is submitted to ORI for approval; the supervision plan must be designed to ensure the scientific integrity of Respondent's research; Respondent agrees that he shall not participate in any PHS-supported research until such a supervision plan is submitted to and approved by ORI; Respondent agrees to maintain responsibility for compliance with the agreed upon supervision plan;

(3) that any institution employing him shall submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract; and

(4) to exclude himself voluntarily from serving in any advisory capacity to PHS including, but not limited to, service on any PHS advisory committee, board, and/or peer review committee, or as a consultant.

FOR FURTHER INFORMATION CONTACT: Acting Director, Office of Research Integrity, 1101 Wootton Parkway, Suite 750, Rockville, MD 20852, (240) 453-8800.

Donald Wright,
Acting Director, Office of Research Integrity.

[FR Doc. 2014-17889 Filed 7-29-14; 8:45 am]

BILLING CODE 4150-31-P